DEPARTMENT OF JUSTICE

Notice of Lodging of Proposed Consent Decree Under the Comprehensive Environmental Response, Compensation, and Liability Act

On November 6, 2013, the Department of Justice lodged a proposed consent decree with the United States District Court for the District of Rhode Island in the lawsuit entitled United States v. Estate of Amilio L. Zompa, et al., Civil Action No. 3:12-cv-00812-ML-PAS.

The United States filed this lawsuit under Section 107(a) of the Comprehensive Environmental Response, Compensation and Liability Act (“CERCLA”). The United States' complaint seeks recovery of costs incurred in connection with the Environmental Protection Agency's cleanup of hazardous substances at the Birch Swamp Road Superfund Site in Warren, Rhode Island. The Consent Decree requires the defendants to pay a total of $92,000 plus interest, and 82% of the net proceeds from the sale of two properties. The Decree also requires the United States on behalf of the Defense Logistics Agency to pay $475,000 to resolve a potential counterclaim for contribution under Section 113(f) of CERCLA.

The publication of this notice opens a period for public comment on the consent decree. Comments should be addressed to the Assistant Attorney General, Environment and Natural Resources Division, and should refer to United States v. Estate of Amilio L. Zompa, et al., D.J. Ref. No. 90-11-3-090979/1. All comments must be submitted no later than thirty (30) days after the publication date of this notice. Comments may be submitted either by email or by mail:

To submit comments: | Send them to:
By email | pubcomment-ees.enrd@usdoj.gov.
By mail | Assistant Attorney General, U.S. DOJ—ENRD, P.O. Box 7611, Washington, DC 20044-7611.

During the public comment period, the consent decree may be examined and downloaded at this Justice Department Web site: http://www.usdoj.gov/enrd/Consent_Decrees.html. We will provide a paper copy of the consent decree upon written request and payment of reproduction costs. Please mail your request and payment to: Consent Decree Library, U.S. DOJ—ENRD, P.O. Box 7611, Washington, DC 20044-7611.

Please enclose a check or money order for $12.25 (25 cents per page reproduction cost) payable to the United States Treasury.

Robert E. Maher, Jr.,
Assistant Section Chief, Environmental Enforcement Section, Environment and Natural Resources Division.

[FR Doc. 2013-27158 Filed 11-12-13; 8:45 am]

BILLING CODE 4410-15-P